DEPARTMENT OF THE INTERIOR

National Park Service

[NPS-WASO-NAGPRA-NPS0038738; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and has determined that there is no lineal descendant and no Indian Tribe or Native Hawaiian organization with cultural affiliation.

DATES: Upon request, repatriation of the human remains in this notice may occur on or after October 21, 2024.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University, and additional information on the determinations in this notice, including the results of consultation, can be found in its inventory or related records. The National Park Service is not responsible for the determinations in this notice.

Abstract of Information Available

Human remains representing, at least, one individual has been identified. There are no associated funerary objects present. The nearly complete male calvarium was transferred to Kansas State University Sociology, Anthropology and Social Work-Osteology Lab from Kansas State University Division of Biology in 1999, after being identified as possibly Native American. No prior history or provenience known.

Human remains representing, at least, one individual has been identified. There are no associated funerary objects present. The female calvarium was transferred to Kansas State University Sociology, Anthropology and Social Work- Osteology Lab from Kansas State University Division of Biology in 1999, after being identified as possibly Native American. No prior history or provenience known.

Human remains representing, at least, one individual has been identified. There are no associated funerary objects present. Assemblage consists of fragmented remains including 48 skull fragments and one long bone. Adult male of unknown age. Remains show signs of cremation. Human skeletal fragments that were on display at in small museum display in Fairchild Hall, Kansas State University Manhattan Campus. The museum display and assemblage predate the Anthropology program at the university. No other information is known.

Human remains representing, at least, one individual has been identified. This assemblage of fragmented remains including one distal phalanx of an adult of indeterminate sex. Skeletal fragments that were on display at in small museum display in Fairchild Hall, Kansas State University Manhattan Campus. The museum display and assemblage predate the Anthropology program at the university and have a note stating, `Fort Riley Area'. No other information is known.

Lastly, human remains representing, at least, one individual has been identified. The fragmentary pieces represent one male approximately 45-55 years old and were transferred to Kansas State University in the early 1970s. No known provenience or known background other than a note stating, `James Starr mound' and an osteological analysis form stating, `James Starr Mound Grave 10 and cremation'. This is not associated with James Starr Mound in Illinois as the Illinois state archive was contacted and no professional excavations have ever been done at the mounds. No associated funerary objects accompany these remains.

Consultation

Invitations to consult were sent to the Cheyenne and Arapaho Tribes, Oklahoma, Citizen Potawatomi Nation, Oklahoma; Iowa Tribe of Kansas and Nebraska; Iowa Tribe of Oklahoma; Kaw Nation, Oklahoma; Kickapoo Tribe of Indians of the Kickapoo Reservation in Kansas; Omaha Tribe of Nebraska; Otoe-Missouria Tribe of Indians, Oklahoma; Pawnee Nation of Oklahoma; Ponca Tribe of Indians of Oklahoma; Ponca Tribe of Nebraska; Prairie Band Potawatomi Nation; The Osage Nation; and the Wichita and Affiliated Tribes (Wichita, Keechi, Waco & Tawakonie), Oklahoma. In attendance were the Cheyenne and Arapaho Tribes, Oklahoma; Iowa Tribe of Kansas and Nebraska; Ponca Tribe of Nebraska; Prairie Band Potawatomi Nation; and The Osage Nation.

Cultural Affiliation

The following types of information about the cultural affiliation of the human remains in this notice are available: geographical. The information, including the results of consultation, identified no Indian Tribe or Native Hawaiian organization connected to the human remains.

Determinations

The Kansas State University has determined that:

• The human remains described in this notice represent the physical remains of five individuals of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after October 21, 2024. If competing requests for repatriation are received, Kansas State University must determine the most appropriate requestor prior to repatriation. Requests for joint repatriation of the human remains are considered a single request and not competing requests. Kansas State University is responsible for sending a copy of this notice to any consulting lineal descendant, Indian Tribe, or Native Hawaiian organization.

Authority: Native American Graves Protection and Repatriation Act, 25 U.S.C. 3003, and the implementing regulations, 43 CFR 10.10.

Dated: September 12, 2024.
Melanie O'Brien,
Manager, National NAGPRA Program.

[FR Doc. 2024-21541 Filed 9-19-24; 8:45 am]

BILLING CODE 4312-52-P